DEPARTMENT OF LABOR

Employment and Training Administration

[TA-W-74,464]

BreconRidge Manufacturing Solutions, Now Known as Sanmina-SCI Corporation, Division Optoelectronic and Microelectronic Design and Manufacturing, a Subsidiary of Sanmina-SCI Corporation, Including On-Site Leased Workers From Kelly Services, Penski, Inc., and Whitney Enterprises, Ogdensburg, NY; Amended Certification Regarding Eligibility To Apply for Worker Adjustment Assistance

In accordance with Section 223 of the Trade Act of 1974, as amended (“Act”), 19 U.S.C. 2273, the Department of Labor issued a Certification of Eligibility to Apply for Worker Adjustment Assistance on September 30, 2010, applicable to workers of BreconRidge Manufacturing Solutions, now known as Sanmina-SCI Corporation, Division Optoelectronic and Microelectronic Design and Manufacturing, a subsidiary of Sanmina-SCI Corporation, including on-site leased workers from Kelly Services and Penski, Inc., Ogdensburg, New York. The workers are engaged in activities related to the assembling of electrical components. The notice was published in the Federal Register on October 15, 2010 (75 FR 63511).

At the request of the State agency, the Department reviewed the certification for workers of the subject firm. The company reports that workers leased from Whitney Enterprises were employed on-site at the Ogdensburg, New York location of BreconRidge Manufacturing Solutions, now known as Sanmina-SCI Corporation, Division Optoelectronic and Microelectronic Design and Manufacturing, a subsidiary of Sanmina-SCI Corporation. The Department has determined that these workers were sufficiently under the control of BreconRidge Manufacturing Solutions, now known as Sanmina-SCI Corporation, Division Optoelectronic and Microelectronic Design and Manufacturing, a subsidiary of Sanmina-SCI Corporation to be considered leased workers.

Based on these findings, the Department is amending this certification to include workers leased from Whitney Enterprises working on-site at the Ogdensburg, New York location of BreconRidge Manufacturing Solutions, now known as Sanmina-SCI Corporation, Division Optoelectronic and Microelectronic Design and Manufacturing, a subsidiary of Sanmina-SCI Corporation.

The amended notice applicable to TA-W-74,464 is hereby issued as follows:

All workers of BreconRidge Manufacturing Solutions, now known as Sanmina-SCI Corporation, Division Optoelectronic and Microelectronic Design and Manufacturing, a subsidiary of Sanmina-SCI Corporation, including on-site leased workers from Kelly Services, Penski, Inc., and Whitney Enterprises, Ogdensburg, New York, who became totally or partially separated from employment on or after July 29, 2009, through September 30, 2012, and all workers in the group threatened with total or partial separation from employment on the date of certification through two years from the date of certification, are eligible to apply for adjustment assistance under Chapter 2 of Title II of the Trade Act of 1974, as amended.

Signed at Washington, DC this 10th day of February 2011.
Elliott S. Kushner,
Certifying Officer, Division of Trade Adjustment Assistance.

[FR Doc. 2011-4098 Filed 2-23-11; 8:45 am]

BILLING CODE 4510-FN-P